DEPARTMENT OF COMMERCE

Office of the Secretary

Office of Civil Rights; Submission for OMB Review; Comment Request; Complaint of Employment Discrimination Against the Department of Commerce

The Department of Commerce will submit to the Office of Management and Budget (OMB) for clearance the following proposal for collection of information under the provisions of the Paperwork Reduction Act (44 U.S.C. Chapter 35).

Agency: Office of the Secretary, Office of Civil Rights, Commerce.

Title: Complaint of Employment Discrimination against the Department of Commerce.

OMB Control Number: 0690-0015.

Form Number(s): CD-498, 498-A.

Type of Request: Regular (extension of a currently approved information collection).

Number of Respondents: 700.

Average Hours per Response: 350.

Burden Hours: 30 minutes.

Estimated Total Annual Cost to Public: $0.

Needs and Uses: This request is for an extension of a currently approved information collection. Equal Employment Opportunity Commission (EEOC) regulations at 29 CFR 1614.106 require that a person alleging discriminatory treatment by a federal agency must submit a signed statement that is sufficiently precise to identify the general actions or practices that form the bases of the complaint. Although complainants are not required to use the proposed form to file their complaints, the Office of Civil Rights (OCR) strongly encourages its use to ensure complete and accurate case processing and data collection.

The DOC received no comments in response to the 60-day notice published in the Federal Register on April 14, 2017 (82 FR 17968).

Affected Public: Individuals and households.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-23435 Filed 10-26-17; 8:45 am]

BILLING CODE 3510-BP-P